DEPARTMENT OF COMMERCE

National Oceanic and Atmospheric Administration

RIN 0648-XA183

Endangered and Threatened Species; Take of Anadromous Fish

AGENCY: National Marine Fisheries Service (NMFS), National Oceanic and Atmospheric Administration (NOAA), Commerce.

ACTION: Issuance of a scientific research permit.

SUMMARY: Notice is hereby given that NMFS has issued scientific research Permit 15390 to the Resource Conservation District of the Santa Monica Mountains (RCD), in southern California.

ADDRESSES: The permit application, the permit, and related documents are available for review, by appointment, at the foregoing address at: Protected Resources Division, NMFS, 501 W. Ocean Blvd., Suite 4200, Long Beach, CA 90802 (ph: 562-980-4026, fax: 562-980-4027, e-mail at: Matthew.McGoogan@noaa.gov). The permit application is also available for review online at the Authorizations and Permits for Protected Species Web site at https://apps.nmfs.noaa.gov.

FOR FURTHER INFORMATION CONTACT: Matt McGoogan at 562-980-4026, or e-mail: Matthew.McGoogan@noaa.gov.

SUPPLEMENTARY INFORMATION:

Authority

The issuance of permits, as required by the Endangered Species Act of 1973 (16 U.S.C. 1531-1543) (ESA), is based on a finding that such permits: (1) Are applied for in good faith; (2) would not operate to the disadvantage of the listed species which are the subject of the permits; and, (3) are consistent with the purposes and policies set forth in section 2 of the ESA. Authority to take listed species is subject to conditions set forth in the permits. Permits are issued in accordance with and are subject to the ESA and NMFS regulations (50 CFR parts 222-226) governing listed fish and wildlife permits.

Species Covered in This Notice

This notice is relevant to the federally endangered Southern California Distinct Population Segment of steelhead (Oncorhynchus mykiss).

Permit Issued

A notice of the receipt of an application for Permit 15390 was published in the Federal Register on May 7, 2010 (75 FR 25205). Permit 15390 was issued to the RCD on October 8, 2010. Permit 15390 authorizes the RCD to conduct a scientific study of steelhead in Topanga Creek, Arroyo Sequit, and Malibu Creek. The purpose of this study is to gather information that will contribute to the understanding of migration patterns, diet, and the abundance and distribution of steelhead in the subject streams. Monitoring methods authorized by the permit include direct underwater observation techniques for estimating abundance and distribution of steelhead, migratory trapping, and Passive Integrated Transponder (PIT) tagging. Authorized sampling methods to obtain steelhead for abundance counts and PIT tagging include hand nets, seine nets, angling, fyke traps, and electrofishing.

Permit 15390 authorizes an annual non-lethal take of 1150 juvenile steelhead, 100 smolts, and 10 adult steelhead as well as an annual collection and possession of up to 950 steelhead tissue samples and 10 steelhead carcasses. The permit authorizes 100 smolts and up to 850 juvenile steelhead (depending on size) to be processed for PIT tags. The capture of adult steelhead in fyke traps is authorized by the permit, but PIT tagging of adults is not. The permit authorizes gastric lavage to be performed on up to 30 juvenile steelhead to gather information on feeding habits and diet. The authorized unintentional lethal take for the permit is 36 juvenile steelhead annually. No unintentional lethal take of adult steelhead nor intentional lethal take of any steelhead is authorized with this permit. All mortalities will be sent to NMFS Protected Resource Division in Long Beach, CA for genetic research and processing. Field activities associated with Permit 15390 began in October 2010 when the permit was issued and will cease when the permit expires on December 31, 2020.

Dated: January 25, 2011.
Therese Conant,
Acting Chief, Endangered Species Division, Office of Protected Resources, National Marine Fisheries Service.

[FR Doc. 2011-2130 Filed 1-28-11; 8:45 am]

BILLING CODE 3510-22-P